DEPARTMENT OF HEALTH AND HUMAN SERVICES

Centers for Disease Control and Prevention

[30-Day-13-0941]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC 20503 or by fax to (202) 395-5806. Written comments should be received within 30 days of this notice.

Proposed Project

Evaluation of Dating Matters: Strategies to Promote Healthy Teen Relationships™ (OMB# 0920-0941, Expiration 06/30/2015)—REVISION—National Center for Injury Prevention and Control (NCIPC)—Centers for Disease Control and Prevention (CDC).

Background and Brief Description

Dating Matters: Strategies to Promote Healthy Teen Relationships™ is the Centers for Disease Control and Prevention's new teen dating violence prevention initiative.

To address the gaps in research and practice, CDC has developed Dating Matters, teen dating violence prevention program that includes programming for students, parents, educators, as well as policy development. Dating Matters is based on the current evidence about what works in prevention and focuses on high-risk, urban communities where participants include: Middle school students age 11 to 14 years; middle school parents; brand ambassadors; educators; school leadership; program implementers; community representatives; and local health department representatives in the following communities: Alameda County, California; Baltimore, Maryland; Broward County, Florida; and Chicago, Illinois.

The primary goal of this revision is to expand and add a limited number of instruments to the approved outcome and implementation evaluation of Dating Matters in the four metropolitan cities to determine its feasibility, cost, and effectiveness. In the evaluation, a standard model of TDV prevention (Safe Dates administered in 8th grade) will be compared to a comprehensive model (programs administered in 6th, 7th, and 8th grade as well as parent, educator, policy, and communications interventions).

The current revision request has two aims:

(1) Request to revise follow-up outcome evaluation instruments and drop mid-year outcome evaluation student survey, and

(2) Request to add process evaluation instruments to enhance implementation.

Population. The study population includes students in 6th, 7th and 8th grades at 44 schools in the four participating sites. At most, schools are expected to have 6 classrooms per grade, with an average of 30 students per classroom yielding a population of 23,760 students (44 schools × 3 grades × 6 classrooms per grade × 30 students per classroom). All student evaluation activities will take place during the school year. The sampling frame for parents, given that we would only include one parent per student, is also 23,760 for the three years of data collection covered by this package. If we assume 40 educators per school, the sampling frame for the educator sample is 1,760.

Students: In each year of data collection, we will recruit 11,880 students (30 students per classroom × 3 classrooms per grade × 3 grades × 44 schools). We assume a 95% participation rate (n = 11,286) for the baseline student survey and 90% participation rate (n = 10,692) at follow-up survey. In this revision, we request to drop the mid-term survey to reduce burden on schools.

Parents: We will recruit a sample of 2,020 parents. We expect that 95% of the 2,020 parents will agree to participate at baseline (n = 1,919) and 90% will participate in the follow-up survey (n = 1,818) parents.

Educators: We will attempt to recruit all educators in each school (44 schools × 40 educators per school = 1,760). We expect a 95% participation rate for an estimated sample of 1,672 educators at baseline and 90% participation rate at follow-up for an estimated sample of 1,584.

School data extractors: We will attempt to recruit one data extractor per 44 schools to extract school data to be used in conjunction with the outcome data for the students. Data extractors in each school will access individual school-level data for those students in their school who consented and participated in the baseline student survey (3 × 4 × 30 × 95% = 342).

Implementation Evaluation

For the student focus groups, we will recruit groups of 10 students per group. Two groups will be held per each of the 4 sites (10 × 2 × 4 = 80 total student participants).

Student implementer focus groups will be organized by site, with two annual focus groups per site with 10 implementers in each group (10 × 2 × 4 = 80 total student program implementer participants).

Communications focus groups will be organized by site with up to four groups per site (4 × 4 × 6 = 96 total student participants).

Parent program implementer focus groups will be organized by site, with two annual focus groups per site with 10 implementers in each group (10 × 2 × 4 = 80 total parent program implementer participants).

School Leadership: Based on the predicted number of two school leadership per comprehensive school (21 schools), the number of respondents will be 42.

Local Health Department representative: Based on the predicted number of four communities/sites and four local health department representatives working on Dating Matters per community, the number of respondents will be 16.

Community Advisory Board Representative: Based on the predicted number of 20 community representatives per 4 communities/sites, the number of respondents will be 80.

Parent Program Manager: With a maximum of one parent program manager per community/site, the number of program manager respondents will be 4. It is anticipated that they will receive up to 50 TA requests per year and complete the form 50 times.

Student Program Master Trainer TA Form: With a maximum of 3 master trainers per community. There will be 12 master trainers. It is anticipated that they will receive up to 50 TA requests per year and complete the form 50 times.

Parent Curricula Implementers: It is expected that each school implementing the comprehensive approach (n = 21) will have two implementers (or 42 parent program implementer respondents).

Please note that on the burden table the number of respondents is multiplied by the number of sessions in each parent program.

Student Curricula Implementers: Based on the predicted number of 20 student curricula implementers per grade per site that will be completing fidelity instruments, the total number of respondents will be 80 per grade (20 × 4).

Brand Ambassadors: The Brand Ambassador Implementation Survey will be provided to each brand ambassador (n = 20) in each community with a maximum of 80 brand ambassadors.

Communications Implementers (“Brand Ambassador Coordinators”): The Communications Campaign Tracking form will be provided to each brand ambassador coordinator in each community. With a maximum of one brand ambassador coordinator per community (n = 4), the feedback form will be collected from a total of 4 brand ambassador coordinators.

Parent Program Participants: The 6th and 7th grade parent satisfaction questionnaires will be completed by parent participating in the parent program in each community. There is a maximum number of parent respondents of 1,890 (18 × 5 × 21) for the 6th grade satisfaction questionnaire and 1,890 for the 7th grade satisfaction questionnaire.

There are no costs to the respondents other than their time. The total estimated annual burden hours are 27923.

Estimated Annualized Burden Hours
Type of respondent | Form name | Number of respondents | Number of responses per respondent | Average burden per response (hours)
Student Program Participant | Student Outcome Survey Baseline | 11,286 | 1 | 45/60
Student Program Participant | Student Outcome Survey Follow-up | 10,692 | 1 | 45/60
School data extractor | School Indicators | 44 | 342 | 15/60
Parent Program Participant | Parent Outcome Baseline Survey | 1,919 | 1 | 1
Parent Program Participant | Parent Outcome Follow-up Survey | 1,818 | 1 | 1
Educator | Educator Outcome Survey (baseline) | 1,672 | 1 | 30/60
Student Brand ambassador | Brand Ambassador Implementation Survey | 80 | 2 | 20/60
School leadership | School Leadership Capacity and Readiness Survey | 42 | 1 | 1
Parent Curricula Implementer | Parent Program Fidelity 6th Grade Session 1-Session 6 | 210 | 3 | 15/60
Parent Curricula Implementer | Parent Program Fidelity 7th Grade Session 1, 3, 5 | 126 | 3 | 15/60
Student Curricula Implementer | Student Program Fidelity 6th Grade Session 1-Session 6 | 480 | 1 | 15/60
Student Curricula Implementer | Student Program Fidelity 7th Grade Session 1-Session 7 | 560 | 1 | 15/60
Student Curricula Implementer | Student Program Fidelity 8th Grade Session 1-Session 10 (comprehensive) | 800 | 1 | 15/60
Communications Coordinator | Communications Campaign Tracking | 4 | 4 | 20/60
Local Health Department Representative | Local Health Department Capacity and Readiness | 16 | 1 | 2
Student Program Participant | Student participant focus group guide (time spent in focus group) | 80 | 1 | 1.5
Student Curricula Implementer | Student curricula implementer focus group guide (time spent in focus group) | 80 | 1 | 1
Parent Curricula Implementer | Parent curricula implementer focus group guide (time spent in focus group) | 80 | 1 | 1
Student Curricula Implementer | Safe Dates 8th Grade Session 1-Session 10 (standard) | 800 | 1 | 15/60
Student Master Trainer | Student program master trainer TA form | 12 | 50 | 10/60
Educator | Educator Outcome Survey (follow-up) | 1584 | 1 | 30/60
Community Advisory Board Member | Community Capacity/Readiness Assessment | 80 | 1 | 1
Students | Communications Focus Groups | 96 | 1 | 1.5
Parent Program Manager | Parent Program Manager TA Tracking Form | 4 | 50 | 10/60
Parent Program Participant | 6th Grade Curricula Parent Satisfaction Questionnaire | 1890 | 1 | 10/60
Parent Program Participant | 7th Grade Curricula Parent Satisfaction Questionnaire | 1890 | 1 | 10/60

Dated: February 12, 2013.
Ron A. Otten,
Director, Office of Scientific Integrity (OSI), Office of the Associate Director for Science (OADS), Office of the Director, Centers for Disease Control and Prevention.

[FR Doc. 2013-03891 Filed 2-19-13; 8:45 am]

BILLING CODE 4163-18-P